DEPARTMENT OF COMMERCE

International Trade Administration

[Application No. 92-11A001]

Export Trade Certificate of Review

ACTION: Notice of Issuance of an amended Export Trade Certificate of Review to Aerospace Industries Association of America (“AIA”) (Application #92-11A001).

SUMMARY: The U.S. Department of Commerce issued an amended Export Trade Certificate of Review to Aerospace Industries Association of America on April 11, 2013.

FOR FURTHER INFORMATION CONTACT: Joseph E. Flynn, Director, Office of Competition and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. The regulations implementing Title III are found at 15 CFR part 325 (2013).

The Office of Competition and Economic Analysis (“OCEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

AIA's Export Trade Certificate of Review has been amended to:

1. Add the following new Members of the Certificate within the meaning of section 325.2(1) of the Regulations (15 CFR 325.2(1)): 3M Company (St. Paul, MN); Aireon LLC (McLean, VA); Align Aerospace, LLC (Chatsworth, CA); Allied Telesis, Inc. (Bothell, WA); ARINC Aerospace (Annapolis, MD), Benchmark Electronics, Inc. (Angleton, TX); BRS Aerospace (St. Paul, MN); Camcode Division of Horizons, Inc. (Cleveland, OH); CPI Aerostructures, Inc. (Edgewood, NY); Deltek, Inc. (Herndon, VA); Denison Industries, Inc. (TX); ENSCO, Inc. (Falls Church); Ernst & Young LLP; (New York, NY); Fluor Corporation (Irving, TX); Galaxy Technologies (Winfield, KS), GKN Aerospace North America (Irving, TX); Huntington Ingalls Industries, Inc. (Newport News, VA); ITT Exelis (McLean, VA); Microsemi Corporation (Aliso Viejo, CA); Ontic Engineering and Manufacturing, Inc. (Chatsworth, CA); Seal Science, Inc. (Irvine, CA); TASC, Inc. (Chantilly, VA); W.L. Gore & Associates, Inc. (Newark, DE).

2. Delete the following companies as Members of AIAA's Certificate: AirDat LLC; AMSAFE Aviation; ANSYS Inc.; Armorworks Enterprises, LLC; Comtech AeroAstro, Inc.; Crown Consulting, Inc.; DynCorp International, LLC; Integral Systems, Inc.; ITT Corporation; Metron Aviation; Micro-Tronics; Paragon Space Development Corporation; Qwaltec, Inc.; Remmele Engineering, Inc.; Sanima-SCI Corporation; SM&A; Southern California Braiding Company, Inc.; TIMCO Aviation Services, Inc.; UFC Aerospace; Vermont Composites, Inc.; WIPRO Technologies.

3. Change in name or address for the following Members: Meggitt Vibro-Meter, Inc. (Londonberry, NH) has been replaced by Meggitt-USA, Inc. (Simi, CA); PPG Aerospace (Symlar, CA) has changed its name to PPG Aerospace-Sierracin Corporation; and Woodward Governor Company (Fort Collins, CO) has changed its name to Woodward, Inc.

Dated: April 19, 2013.
Joseph E. Flynn,
Director, Office of Competition and Economic Analysis.

[FR Doc. 2013-09959 Filed 4-26-13; 8:45 am]

BILLING CODE 3510-DR-P